DEPARTMENT OF VETERANS AFFAIRS

Enhanced-Use Lease (EUL) of U.S. Department of Veterans Affairs (VA) Real Property for the Development of Permanent Supportive Housing at the Greater Los Angeles Healthcare System (GLAHS)—Principal Developer EUL—West Los Angeles (WLA), CA Campus

AGENCY: Department of Veterans Affairs.

ACTION: Notice of intent to enter into an EUL.

SUMMARY: The purpose of this Federal Register notice is to provide the public with notice that the Secretary of Veterans Affairs intends to enter into an EUL of certain assets identified below on the campus of the GLAHS-WLA.

FOR FURTHER INFORMATION CONTACT: C. Brett Simms, Executive Director, Office of Asset Enterprise Management, Office of Management, 810 Vermont Avenue NW, Washington, DC 20420, 202-632-7092. This is not a toll-free number.

SUPPLEMENTARY INFORMATION: Pursuant to 38 U.S.C. 8161-8169 and the West Los Angeles Leasing Act of 2016, Public Law 114-226, as amended, the Secretary of Veterans Affairs is authorized to enter into an EUL for a term of up to 99 years on the GLAHS-WLA Campus for the provision of supportive housing, if the lease is not inconsistent with and will not adversely affect the mission of VA. Consistent with this authority, the Secretary intends to enter into an EUL for the purpose of outleasing certain assets on the GLAHS-WLA Campus to develop at least 900 units of permanent supportive housing for Veterans and their families. The property to be leased may include the following assets on the area of the campus north of Wilshire Boulevard: Buildings 13, 113, 114, 115, 117, 156, 157, 158, 206, 210, 233, 236, 256, 257, 258, 306, 337, 340, 342, 346; parking lots 18, 20, 21, 38 and 49; and other assets identified in the Request for Qualifications No. 36E7718Q9061_1. The competitively-selected EUL Lessee/Principal Developer, the West LA Veterans Collective LLC, will finance, design, develop, rehabilitate, construct, manage, maintain and operate permanent supportive housing for eligible homeless Veterans or Veterans at-risk of homelessness on a priority placement basis. The housing will be developed in multiple phases over the next 11-plus years consistent with the GLAHS-WLA Master Plan 2022. Additionally, the Lessee/Principal Developer will be required to provide supportive services that guide Veteran residents towards long-term independence and self-sufficiency.

Signing Authority

Denis McDonough, Secretary of Veterans Affairs, approved this document on May 10, 2022, and authorized the undersigned to sign and submit the document to the Office of the Federal Register for publication electronically as an official document of the Department of Veterans Affairs.

Luvenia Potts,
Regulations Development Coordinator, Office of Regulation Policy & Management, Office of General Counsel, Department of Veterans Affairs.

[FR Doc. 2022-10465 Filed 5-13-22; 8:45 am]

BILLING CODE 8320-01-P